DEPARTMENT OF DEFENSE

Office of the Secretary

[Transmittal No. 15-50]

36(b)(1) Arms Sales Notification

AGENCY: Defense Security Cooperation Agency, Department of Defense,.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-50 with attached Policy Justification and Sensitivity of Technology.

Dated: September 16, 2015.
Aaron Siegel,
Alternate OSD Federal Register Liaison Officer, Department of Defense.

Transmittal No. 15-50

Notice of Proposed Issuance of Letter of Offer Pursuant to Section 36(b)(1) of the Arms Export Control Act, as amended

(i) Prospective Purchaser: Government of the United Kingdom

(ii) Total Estimated Value:

Major Defense Equipment * | $1.68 billion
Other | $1.32 billion
Total | $3.00 billion.
* as defined in Section 47(6) of the Arms Export Control Act.

(iii) Description and Quantity or Quantities of Articles or Services under Consideration for Purchase:

Remanufacture of fifty (50) United Kingdom (UK) WAH-64 Mk 1 Attack Helicopters to AH-64E Block III Apache Guardian Helicopters with one hundred and ten (110) T-700-GE-701D Engines (100 installed and 10 spares)

Refurbishment of fifty-three (53) AN/ASQ-170 Modernized Target Acquisition and Designation Sights (M-TADS) (50 installed and 3 spares)

Refurbishment of fifty-three (53) AN/AAR-11 Modernized Pilot Night Vision Sensors (PNVS) (50 installed and 3 spares)

Refurbishment of fifty-two (52) AN/APG-78 Fire Control Radars (FCR) (50 installed and 2 spares) with fifty-five (55) Radar Electronics Units (Longbow Component) (50 installed and 5 spares), fifty-two (52) AN/APR-48B Modernized Radar Frequency Interferometers (50 installed and 2 spares), sixty (60) AAR-57(V) 3/5 Common Missile Warning Systems (CMWS) with 5th Sensor and Improved Countermeasure Dispenser (50 installed and 10 spares), one hundred twenty (120) Embedded Global Positioning Systems with Inertial Navigation (100 installed and 20 spares), and three hundred (300) Apache Aviator Integrated Helmets.

Also included are AN/AVR-2B Laser Detecting Sets, AN/APR-39D(V)2 Radar Signal Detecting Sets, Integrated Helmet and Display Sight Systems (IHDSS-21), Manned-Unmanned Teaming International (MUMT-I), KOR-24A Link 16 terminals, M206 infrared countermeasure flares, M211 and M212 Advanced Infrared Countermeasure Munitions (AIRCMM) flares, Identification Friend or Foe (IFF) transponders, ammunition, communication equipment, tools and test equipment, training devices, simulators, generators, transportation, wheeled vehicles, organizational equipment, spare and repair parts, support equipment, personnel training and training equipment, U.S. government and contractor engineering, technical, and logistics support services, and other related elements of logistics support.

(iv) Military Department: Army (WSO)

(v) Prior Related Cases, if any: FMS Case WMN-$3.5M-28JUNE2002 FMS Case WRZ-$12M-27MARCH2012

(vi) Sales Commission, Fee, etc., Paid, Offered, or Agreed to be Paid: None

(vii) Sensitivity of Technology Contained in the Defense Article or Defense Services Proposed to be Sold: See Attached Annex

(viii) Date Report Delivered to Congress: 26 AUG 15

POLICY JUSTIFICATION

United Kingdom—AH-64E APACHE GUARDIAN Attack Helicopters

The Government of the United Kingdom has requested the remanufacture of fifty (50) United Kingdom (UK) WAH-64 Mk 1 Attack Helicopters to AH-64E Apache Guardian Helicopters with one hundred and ten (110) T-700-GE-701D Engines (100 installed and 10 spares), the refurbishment of fifty-three (53) AN/ASQ-170 Modernized Target Acquisition and Designation Sights (M-TADS) (50 installed and 3 spares), the refurbishment of fifty-three (53) AN/AAR-11 Modernized Pilot Night Vision Sensors (PNVS) (50 installed and 3 spares), the refurbishment of fifty-two (52) AN/APG-78 Fire Control Radars (FCR) (50 installed and 2 spares) with fifty-five (55) Radar Electronics Units (Longbow Component) (50 installed and 5 spares), fifty-two (52) AN/APR-48B Modernized Radar Frequency Interferometers (50 installed and 2 spares), sixty (60) AAR-57(V) 3/5 Common Missile Warning Systems (CMWS) with 5th Sensor and Improved Countermeasure Dispenser (50 installed and 10 spares), one hundred and twenty (120) Embedded Global Positioning Systems (GPS) with Inertial Navigation (100 installed and 20 spares), and three hundred (300) Apache Aviator Integrated Helmets.

Also included are AN/AVR-2B Laser Detecting Sets, AN/APR-39D(V)2 Radar Signal Detecting Sets, Integrated Helmet and Display Sight Systems (IHDSS-21), Manned-Unmanned Teaming International (MUMT-I), KOR-24A Link 16 terminals, M206 infrared countermeasure flares, M211 and M212 Advanced Infrared Countermeasure Munitions (AIRCMM) flares, Identification Friend or Foe (IFF) transponders, ammunition, communication equipment, tools and test equipment, training devices, simulators, generators, transportation, wheeled vehicles, organizational equipment, spare and repair parts, support equipment, personnel training and training equipment, U.S. Government and contractor engineering, technical, and logistics support services, and other related elements of logistics support. The estimated cost is $3.00 billion.

This proposed sale will contribute to the foreign policy and national security of the United States by helping to improve the security of a North Atlantic Treaty Organization (NATO) ally which has been, and continues to be, an important force for political stability and economic progress around the world. The upgrade and refurbishment of these helicopters will allow the United Kingdom greater interoperability with U.S. forces.

The proposed sale provides the Government of the United Kingdom with assets vital to deter and defend against potential threats. The United Kingdom will use the Apache helicopters to conduct various missions, including counter-terrorism and counter-piracy operations. The materiel and services under this program will enable the United Kingdom to become a more capable defensive force and will also provide key elements required for interoperability with U.S. forces.

The proposed sale of this equipment and support will not alter the basic military balance in the region.

The prime contractors will be The Boeing Company in Mesa, Arizona; Lockheed Martin Corporation in Orlando, Florida; General Electric Company in Cincinnati, Ohio; Lockheed Martin Mission Systems and Training in Owego, New York; and Longbow Limited Liability Corporation in Orlando, Florida. There are no known offset agreements proposed in connection with this potential sale.

Implementation of this proposed sale may require the assignment of six (6) U.S. contractor representatives in country full-time for up to sixty (60) months for equipment checkout, fielding, and technical support.

There will be no adverse impact on U.S. defense readiness as a result of this proposed sale.

Transmittal No. 15-50

Notice of Proposed Issuance of Letter of Offer Pursuant to Section 36(b)(1) of the Arms Export Control Act, as amended

Annex

Item No. vii

(vii) Sensitivity of Technology:

1. The AH-64E APACHE Attack Helicopter weapon system contains communications and target identification equipment, navigation equipment, aircraft survivability equipment, displays, and sensors. The airframe itself does not contain sensitive technology; however, the pertinent equipment listed below will be either installed on the aircraft or included in the sale.

a. The AN-APG-78 Fire Control Radar (FCR) is an active, low-probability of intercept, millimeter-wave radar combined with a passive AN/APR-48B Modernized Radar Frequency Interferometer (MRFI) mounted on top of the helicopter mast. The FCR Ground Targeting Mode detects, locates, classifies and prioritizes stationary or moving armored vehicles, tanks and mobile air defense systems, as well as hovering helicopters and fixed wing aircraft in normal flight. The MRFI detects threat radar emissions and determines the type of radar and mode of operation. The FCR data and MRFI data are fused for maximum synergism. If desired, the radar data can be used to refer targets to the regular electro-optical Modernized Target Acquisition and Designation Sight (MTADS), permitting additional visual/infrared imagery and control of weapons, including the semi-active laser version of the HELLFIRE missile. The content of these items is classified Secret.

b. The AN/APR-48B Modernized Radar Frequency Interferometer (MRFI) is an updated version of the passive radar detection and direction finding system. It utilizes a detachable User Data Module (UDM) on the Modernized Radar Frequency Interferometer (MRFI) processor, which contains the Radar Frequency (RF) threat library. The UDM, which is a hardware asssemblage item, is classified Confidential when programmed with threat parametrics, threat priorities, and/or techniques dervied from U.S. intelligence information. The hardware becomes Classified when populated with threat parametric data. Releasable technical manuals are Unclassified/restricted distribution.

c. The AN/AVR-2B Laser Warning Set is a passive laser warning system. It receives, processes, and displays on the multi-functional display unit threat information resulting from illumination of the aircraft by lasers. The hardware is classified Confidential. Releasable technical manuals for operation and maintenance are classified Secret.

d. The AN/APR-39D(V)2 Radar Signal Detecting Set is a system that provides warning of a radar-directed air defense threat to allow engagement of countermeasures. This is the MIL-STD 1553 data bus compatible configuration. Hardware is classified Confidential when programmed with U.S. threat data. Releasable technical manuals for operation and maintenance are classified Confidential. Releasable technical data (technical performance) are classified Secret.

e. The AN/ARC-201D Single Channel Ground and Airborne Radio System (SINCGARS) is a tactical frequency modulation (FM) airborne radio subsystem that provides secure, anti-jam voice and data communication. The Enhanced Data Modes (EDM) of the radio employ a Reed-Solomon Forward Error Correction (FEC) technique that provides enhanced bit-error-rate performance.

f. The M211 flare is a countermeasure decoy. It consists of case, piston, special material payload foils, and end cap. The special material is a pyrophoric metal (iron) foil that reacts with oxygen to generate infrared energy. The M211 flares are dispersed from aircraft to be used as decoys in combination with currently fielded M206 and M212 countermeasure flares to protect against advanced air-to-air missile threats. The hardware is Unclassified and releasable technical manuals for operation and maintenance are classified Secret.

g. The M212 flare is a multi-spectral countermeasure flare. It consists of a case, impulse cartridge, Safe and Ignition (S&I), a propellant grain and a forward brass closure which acts as a weight to improve aerodynamics of the decoy. The M212 flares are dispersed from an aircraft and used in combination with the currently fielded M206 and M211 countermeasure flares and decoys to protect against advanced air-to-air and surface-to-air missile threats. The hardware is Unclassified and releasable technical manuals for operation and maintenance are classified Secret.

2. If a technologically advanced adversary were to obtain knowledge of the specific hardware and software elements, the information could be used to create countermeasures which might reduce weapons system effectiveness or be used in the development of a system with similar or advanced capabilities.

3. A determination has been made that the recipient country can provide the same degree of protection for the sensitive technology being released as the U.S. Government. This sale is necessary in furtherance of the U.S. foreign policy and national security objectives outlined in the Policy Justification.

4. All defense articles and services listed in this transmittal have been authorized for release and export to the Government of the United Kingdom.

[FR Doc. 2015-23966 Filed 9-21-15; 8:45 am]

BILLING CODE 5001-06-P